SECURITIES AND EXCHANGE COMMISSION

[File No. 500-1]

Alaska Gold Corp., Blaze Energy Corp., Call Now, Inc., Hunt Global Resources, Inc., Imperial Petroleum Recovery Corporation, Metropolitan Mines Corporation, Limited, and SulphCo, Inc.; Order of Suspension of Trading

July 16, 2014.

It appears to the Securities and Exchange Commission that there is a lack of current and accurate information concerning the securities of Alaska Gold Corp. because it has not filed any periodic reports since the period ended February 29, 2012.

It appears to the Securities and Exchange Commission that there is a lack of current and accurate information concerning the securities of Blaze Energy Corp. because it has not filed any periodic reports since the period ended September 30, 2013.

It appears to the Securities and Exchange Commission that there is a lack of current and accurate information concerning the securities of Call Now, Inc. because it has not filed any periodic reports since the period ended June 30, 2011.

It appears to the Securities and Exchange Commission that there is a lack of current and accurate information concerning the securities of Hunt Global Resources, Inc. because it has not filed any periodic reports since the period ended March 31, 2012.

It appears to the Securities and Exchange Commission that there is a lack of current and accurate information concerning the securities of Imperial Petroleum Recovery Corporation because it has not filed any periodic reports since the period ended October 31, 2011.

It appears to the Securities and Exchange Commission that there is a lack of current and accurate information concerning the securities of Metropolitan Mines Corporation, Limited because it has not filed any periodic reports since the period ended May 31, 1997.

It appears to the Securities and Exchange Commission that there is a lack of current and accurate information concerning the securities of SulphCo, Inc. because it has not filed any periodic reports since the period ended June 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 16, 2014, through 11:59 p.m. EDT on July 29, 2014.

By the Commission.
Jill M. Peterson,
Assistant Secretary.

[FR Doc. 2014-17035 Filed 7-16-14; 11:15 am]

BILLING CODE 8011-01-P